ENVIRONMENTAL PROTECTION AGENCY

[FRL-7918-7]

EPA Science Advisory Board (SAB) Staff Office; Request for Nominations of Experts for the SAB Advisory Panel for Polychlorinated Biphenyl (PCB) Risks Associated With Establishing an Artificial Reef

AGENCY: Environmental Protection Agency (EPA).

ACTION: Notice.

SUMMARY: The Science Advisory Board (SAB) Staff Office is requesting the nomination of experts for a SAB Advisory Panel for PCB risks associated with an artificial reef established from a former United States Navy ship.

DATES: Nominations should be submitted by June 21, 2005, per instructions below.

FOR FURTHER INFORMATION CONTACT: Any member of the public wishing further information regarding this Notice and Request for Nominations may contact Dr. Sue Shallal, Designated Federal Officer (DFO), SAB Staff Office, by telephone/voice mail at (202) 343-9977; by fax at (202) 233-0643; or via e-mail at: shallal.suhair@epa.gov. General information concerning the EPA Science Advisory Board can be found on the EPA SAB Web site at: http://www.epa.gov/sab.

Technical contact: The U.S. Navy's draft assessment that is the subject of this advisory activity will be available from the U.S. Environmental Protection Agency's (EPA) Region 4. For questions and information concerning these materials, please contact Craig Brown at (404) 562-8990 or brown.craig@epa.gov.

SUPPLEMENTARY INFORMATION: Background: The U.S. Navy and the State of Florida are planning to deploy the ex-Oriskany, a World War II era aircraft carrier, as an artificial reef in the Gulf of Mexico. In accordance with the Toxic Substances Control Act (TSCA) and its implementing Federal PCB regulations (40 CFR Part 761), the U.S. Navy has applied for and must obtain a risk-based PCB disposal approval prior to sinking the vessel with non-liquid PCBs onboard. The EPA may approve such an application if it finds the disposal action will not pose an unreasonable risk of injury to human health or the environment. To evaluate the potential transfer of non-liquid PCBs to the marine environment and the subsequent risk that they might pose to human and ecological receptors using the artificial reef, the Navy performed leaching studies of different on-board PCB containing materials followed by fate and transport modeling of the leaching results to evaluate how released chemicals might behave in the near-reef marine environment. The U.S. Navy has also developed a fate and transport model known as the Prospective Risk Assessment Model (PRAM). EPA Region 4 has requested that the SAB conduct a consultation followed by an advisory on the U.S. Navy's assessment of potential human health and environmental risks from PCBs released from the ex-Oriskany following deployment as an artificial reef. The focus of the SAB consultation and advisory includes the leaching studies, the PRAM, and characterization of potential risks.

The SAB was established by 42 U.S.C. 4365 to provide independent scientific and technical advice, consultation, and recommendations to the EPA Administrator on the technical basis for Agency positions and regulations. A SAB panel composed of current members will conduct a consultation. The purpose of a consultation is to provide non-consensus, oral advice on the preliminary assessment. Following the consultation, the SAB will conduct an advisory to provide consensus written advice on the U.S. Navy's revised assessment. The advisory will be conducted by a panel consisting of current SAB members and additional outside experts. These panels will comply with the provisions of the Federal Advisory Committee Act (FACA) and all appropriate SAB procedural policies. As such, all public meetings will be announced in the Federal Register at least 15 days prior to their scheduled times. Upon completion, the advisory panel's report will be submitted to the Chartered SAB for final approval prior to transmittal to the EPA Administrator.

Request for Nominations: The SAB Staff Office is seeking public nominations of recognized experts to serve on the advisory panel. The nominees should have expertise in one or more of the following areas: PCB chemistry; fate and transport modeling; exposure assessment; and PCB toxicity to human health and aquatic ecosystems.

Process and Deadline for Submitting Nominations: Any interested person or organization may nominate individuals qualified in the areas of expertise described above to serve on the SAB Artificial Reef PCB Risk Advisory Panel. Nominations should be submitted in electronic format through the SAB Nomination Form which can be accessed through a link on the blue navigational bar on the SAB Web site at: http://www.epa.gov/sab/sab_panel_form.htm. To be considered, all nominations must include the information requested on that form.

Anyone who is unable to submit nominations using this form and any questions concerning any aspects of the nomination process may contact the DFO, as indicated above in this notice. Nominations should be submitted in time to arrive no later than June 21, 2005. Any questions concerning either this process or any other aspects of this notice should be directed to the DFO. The process for forming a SAB panel is described in the Overview of the Panel Formation Process at the Environmental Protection Agency, Science Advisory Board (EPA-SAB-EC-COM-02-010), on the SAB Web site at: http://www.epa.gov/sab/pdf/ec02010.pdf.

From the nominees identified by respondents to this Federal Register notice (termed the “Widecast”), the SAB Staff Office will develop a smaller subset (known as the “Short List”) for more detailed consideration. The Short List will be posted on the SAB Web Site at: http://www.epa.gov/sab, and will include, for each candidate, the nominee's name and biosketch. Public comments on the Short List will be accepted during the comment period, the public will be requested to provide information, analysis or other documentation on nominees that the SAB Staff Office should consider in evaluating candidates for the Panel.

For the SAB, a balanced panel (i.e., committee, subcommittee, or panel) is characterized by inclusion of candidates who possess the necessary domains of knowledge, the relevant scientific perspectives (which, among other factors, can be influenced by work history and affiliation), and the collective breadth of expertise and experience to adequately address the charge. Public responses to the Short List candidates will be considered in the selection of the panel, along with information provided by candidates and information gathered by SAB Staff independently on the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Prospective candidates will be required to complete and submit the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: May 23, 2005.
Vanessa T. Vu,
Director, EPA Science Advisory Board Staff Office.

[FR Doc. 05-10677 Filed 5-27-05; 8:45 am]

BILLING CODE 6560-50-P